DEPARTMENT OF ENERGY

Federal Energy Regulatory Commission

Combined Notice of Filings #1

Take notice that the Commission received the following electric corporate filings:

Docket Numbers: EC20-102-000.

Applicants: Terra-Gen Power Holdings II, LLC, Golden NA Power Holdings LLC, Energy Capital Partners III, LLC.

Description: Supplement to September 15, 2020 Application for Authorization Under Section 203 of the Federal Power Act, et al. of Terra-Gen Power Holdings II, LLC, et al.

Filed Date: 9/25/20.

Accession Number: 20200925-5073.

Comments Due: 5 p.m. ET 10/6/20.

Docket Numbers: EC20-106-000.

Applicants: Hog Creek Wind Project, LLC, Meadow Lake Wind Farm V LLC, Quilt Block Wind Farm LLC, Redbed Plains Wind Farm LLC, Riverstart Solar Park LLC.

Description: Application for Approval under Section 203 of the Federal Power Act, et al. of Hog Creek Wind Project, LLC, et al.

Filed Date: 9/28/20.

Accession Number: 20200928-5161.

Comments Due: 5 p.m. ET 10/19/20.

Take notice that the Commission received the following electric rate filings:

Docket Numbers: ER05-1056-011.

Applicants: Bonneville Power Administration.

Description: Bonneville Power Administration submits Report of Payment: Recoupment and Interest_Vistra Intermediate Company, LLC to be effective N/A.

Filed Date: 9/29/20.

Accession Number: 20200929-5199.

Comments Due: 5 p.m. ET 10/20/20.

Docket Numbers: ER10-2881-036; ER10-2882-037; ER10-2883-035; ER10-2884-035; ER16-2509-006; ER17-2400-007; ER17-2401-007; ER17-2403-007; ER17-2404-007.

Applicants: SP Sandhills Solar, LLC, SP Pawpaw Solar, LLC, SP Decatur Parkway Solar, LLC, SP Butler Solar, LLC, Rutherford Farm, LLC, Southern Power Company, Georgia Power Company, Mississippi Power Company, Alabama Power Company.

Description: Notification of Non-Material of Change in Status of Alabama Power Company, et al.

Filed Date: 9/29/20.

Accession Number: 20200929-5171.

Comments Due: 5 p.m. ET 10/20/20.

Docket Numbers: ER17-512-007.

Applicants: Virginia Electric and Power Company.

Description: Compliance filing: VEPCO Informational Filing to be effective N/A.

Filed Date: 9/30/20.

Accession Number: 20200930-5132.

Comments Due: 5 p.m. ET 10/21/20.

Docket Numbers: ER20-2201-001.

Applicants: GridLiance High Plains LLC.

Description: Compliance filing: Gridliance HP Revised Winfield Joint Ownership Agreement to be effective 9/1/2020.

Filed Date: 9/30/20.

Accession Number: 20200930-5166.

Comments Due: 5 p.m. ET 10/21/20.

Docket Numbers: ER20-2471-001.

Applicants: NedPower Mount Storm, LLC.

Description: Tariff Amendment: Response to Deficiency Letter in Docket ER20-2471 to be effective 9/20/2020.

Filed Date: 9/30/20.

Accession Number: 20200930-5145.

Comments Due: 5 p.m. ET 10/21/20.

Docket Numbers: ER20-3026-000.

Applicants: Northern Indiana Public Service Company.

Description: § 205(d) Rate Filing: Filing of Two New Delivery Points to be effective 12/1/2020.

Filed Date: 9/29/20.

Accession Number: 20200929-5147.

Comments Due: 5 p.m. ET 10/20/20.

Docket Numbers: ER20-3027-000.

Applicants: Duke Energy Florida, LLC.

Description: § 205(d) Rate Filing: DEF-Seminole Electric Cooperative, Inc. Amended and Restated NITSA to be effective 12/1/2020.

Filed Date: 9/29/20.

Accession Number: 20200929-5150.

Comments Due: 5 p.m. ET 10/20/20.

Docket Numbers: ER20-3028-000.

Applicants: Southwest Power Pool, Inc.

Description: § 205(d) Rate Filing: 2451R4 Kansas Electric Power Cooperative, Inc. NITSA NOA to be effective 9/1/2020.

Filed Date: 9/30/20.

Accession Number: 20200930-5028.

Comments Due: 5 p.m. ET 10/21/20.

Docket Numbers: ER20-3029-000.

Applicants: Southwest Power Pool, Inc.

Description: § 205(d) Rate Filing: 3563 ETEC, MISO and Entergy Services Att AO Cancellation to be effective 3/30/2020.

Filed Date: 9/30/20.

Accession Number: 20200930-5032.

Comments Due: 5 p.m. ET 10/21/20.

Docket Numbers: ER20-3030-000.

Applicants: Tenaska Alabama II Partners, L.P.

Description: Tariff Cancellation: Notice of Cancellation of Tenaska Alabama II Partners MBR Tariff to be effective 10/1/2020.

Filed Date: 9/30/20.

Accession Number: 20200930-5075.

Comments Due: 5 p.m. ET 10/21/20.

Docket Numbers: ER20-3031-000.

Applicants: New England Power Pool Participants Committee.

Description: § 205(d) Rate Filing: October 2020 Membership Filing to be effective 10/1/2020.

Filed Date: 9/30/20.

Accession Number: 20200930-5077.

Comments Due: 5 p.m. ET 10/21/20.

Docket Numbers: ER20-3032-000.

Applicants: Ameren Illinois Company, Midcontinent Independent System Operator, Inc.

Description: § 205(d) Rate Filing: 2020-09-30_SA 3299 Att A_Ameren IL-Norris Electric-Green Brier Proj. No. 3 to be effective 11/29/2020.

Filed Date: 9/30/20.

Accession Number: 20200930-5078.

Comments Due: 5 p.m. ET 10/21/20.

Docket Numbers: ER20-3033-000.

Applicants: Southern California Edison Company.

Description: § 205(d) Rate Filing: Amended OM&R Agreement Contract No. 16-DSR-12708—RS No. 508 WAPA, NVE, LADWP to be effective 10/1/2020.

Filed Date: 9/30/20.

Accession Number: 20200930-5087.

Comments Due: 5 p.m. ET 10/21/20.

Docket Numbers: ER20-3034-000.

Applicants: Midcontinent Independent System Operator, Inc., GridLiance Heartland LLC.

Description: Compliance filing: 2020-09-30_GridLiance Order 864 ADIT Compliance to be effective 12/1/2020.

Filed Date: 9/30/20.

Accession Number: 20200930-5125.

Comments Due: 5 p.m. ET 10/21/20.

Docket Numbers: ER20-3035-000.

Applicants: Georgia Power Company.

Description: Initial rate filing: SR Lumpkin Affected System Construction Agreement Filing to be effective 11/19/2019.

Filed Date: 9/30/20.

Accession Number: 20200930-5126.

Comments Due: 5 p.m. ET 10/21/20.

Docket Numbers: ER20-3036-000.

Applicants: Vopak Industrial Infrastructure Americas.

Description: Baseline eTariff Filing: Application For Market Based Rate Authority to be effective 10/30/2020.

Filed Date: 9/30/20.

Accession Number: 20200930-5127.

Comments Due: 5 p.m. ET 10/21/20.

Docket Numbers: ER20-3037-000.

Applicants: Vopak Industrial Infrastructure Americas.

Description: Baseline eTariff Filing: Application For Market Based Rate Authority to be effective 10/30/2020.

Filed Date: 9/30/20.

Accession Number: 20200930-5128.

Comments Due: 5 p.m. ET 10/21/20.

Docket Numbers: ER20-3038-000.

Applicants: PJM Interconnection, L.L.C., Ohio Power Company, American Electric Power Service Corporation.

Description: § 205(d) Rate Filing: AEP submits ILDSA SA No. 1575 and Genoa Facilities Agreement to be effective 11/30/2020.

Filed Date: 9/30/20.

Accession Number: 20200930-5130.

Comments Due: 5 p.m. ET 10/21/20.

Docket Numbers: ER20-3039-000.

Applicants: Gulf Power Company.

Description: § 205(d) Rate Filing: Revision to Large Generator Interconnection Agreement to be effective 10/1/2020.

Filed Date: 9/30/20.

Accession Number: 20200930-5159.

Comments Due: 5 p.m. ET 10/21/20.

Docket Numbers: ER20-3040-000.

Applicants: Southwestern Electric Power Company.

Description: § 205(d) Rate Filing: Hope PSA to be effective 1/1/2020.

Filed Date: 9/30/20.

Accession Number: 20200930-5170.

Comments Due: 5 p.m. ET 10/21/20.

Docket Numbers: ER20-3041-000.

Applicants: Public Service Company of New Mexico.

Description: § 205(d) Rate Filing: PNM EIM OATT Tariff Changes to be effective 1/10/2021.

Filed Date: 9/30/20.

Accession Number: 20200930-5171.

Comments Due: 5 p.m. ET 10/21/20.

Docket Numbers: ER20-3042-000.

Applicants: Southwestern Electric Power Company.

Description: § 205(d) Rate Filing: Bentonville PSA to be effective 1/1/2020.

Filed Date: 9/30/20.

Accession Number: 20200930-5178.

Comments Due: 5 p.m. ET 10/21/20.

Docket Numbers: ER20-3043-000.

Applicants: Southwestern Electric Power Company.

Description: § 205(d) Rate Filing: ETEC and NTEC PSA to be effective 1/1/2020.

Filed Date: 9/30/20.

Accession Number: 20200930-5182.

Comments Due: 5 p.m. ET 10/21/20.

Take notice that the Commission received the following electric reliability filings:

Docket Numbers: RR19-7-001.

Applicants: North American Electric Reliability Corporation.

Description: Second Compliance Filing of the North American Electric Reliability Corporation in response to Commission Order on the 5-year Performance Assessment.

Filed Date: 9/28/20.

Accession Number: 20200928-5157.

Comments Due: 5 p.m. ET 10/19/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 30, 2020.
Nathaniel J. Davis, Sr.,
Deputy Secretary.

[FR Doc. 2020-22036 Filed 10-5-20; 8:45 am]

BILLING CODE 6717-01-P